DEPARTMENT OF DEFENSE

Department of the Army

Availability for Non-Exclusive, Exclusive, or Partially Exclusive Licensing of U.S. Patent Application Concerning Ballistic Impact Detection System

AGENCY: Department of the Army, DoD.

ACTION: Notice.

SUMMARY: In accordance with 37 CFR 404.4, 404.6 and 404.7, announcement is made of the availability for licensing of the invention set forth in PCT/US2005/021195 entitled “Ballistic Impact Detection System,” filed June 16, 2005. The United States Government, as represented by the Secretary of the Army, has U.S. and foreign rights in this invention.

ADDRESSES: Commander, U.S. Army Medical Research and Material Command, ATTN: Command Judge Advocate, MCMR-ZA-J, 504 Scott Street, Fort Detrick, Frederick, MD 21702-5012.

FOR FURTHER INFORMATION CONTACT: For licensing issues, Dr. Paul Mele, Office of Research & Technology Assessment, (301) 619-6664. For patient issues, Ms. Elizabeth Arwine, Patent Attorney, (301) 619-7808, both at telefax (301) 619-5034.

SUPPLEMENTARY INFORMATION: A wearable ballistic impact protection system detects impacts to a body. The system includes multiple sensors for detecting vibration. The sensed vibrations are converted to electrical signals which are filtered. Electronic components are provided to determine whether the filtered signals have frequency and amplitude characteristics of impact that cause injury to a body. Preferably, the sensors are Piezo-electric film sensing elements. Information regarding the extent of the impact and injuries to the body may be transmitted to a remote location so that medics or other personnel may be informed to the extent of injuries to the body so that they may provide medical assistance.

Brenda S. Bowen,
Army Federal Register Liaison Officer.

[FR Doc. 06-9635 Filed 12-11-06; 8:45 am]

BILLING CODE 3710-08-M